DEPARTMENT OF COMMERCE

International Trade Administration

[C-580-882]

Certain Cold-Rolled Steel Flat Products From the Republic of Korea: Preliminary Results and Partial Rescission of Countervailing Duty Administrative Review; 2022

AGENCY: Enforcement and Compliance, International Trade Administration, Department of Commerce.

SUMMARY: The U.S. Department of Commerce (Commerce) preliminarily determines that countervailable subsidies were provided to producers and exporters of certain cold-rolled steel flat products (cold-rolled steel) from the Republic of Korea (Korea). The period of review (POR) is January 1, 2022, through December 31, 2022. In addition, Commerce is rescinding the review, in part, with respect to 45 companies. Interested parties are invited to comment on these preliminary results.

DATES: Applicable October 11, 2024.

FOR FURTHER INFORMATION CONTACT: Samuel Evans, AD/CVD Operations, Office IX, Enforcement and Compliance, International Trade Administration, U.S. Department of Commerce, 1401 Constitution Avenue NW, Washington, DC 20230; telephone: (202) 482-2420.

SUPPLEMENTARY INFORMATION:

Background

On November 15, 2023, based on timely requests for review, Commerce initiated this administrative review of the countervailing duty (CVD) order on cold-rolled steel from Korea.¹ On December 18, 2023, Commerce selected Hyundai Steel Company (Hyundai Steel) and POSCO/POSCO International Corporation (POSCO) as the mandatory respondents in this review.² On May 9, 2024, Commerce extended the deadline for the preliminary results of this review.³ On July 22, 2024, Commerce tolled certain deadlines in this administrative proceedings by seven days.⁴ The deadline for the preliminary results is now October 4, 2024.

¹ See Initiation of Antidumping and Countervailing Duty Administrative Reviews, 88 FR 78308 (November 15, 2023).

² See Memorandum, “Respondent Selection,” dated December 18, 2023.

³ See Memorandum, “Extension of Deadline for Preliminary Results of 2022 Countervailing Duty Administrative Review,” dated May 9, 2024.

⁴ See Memorandum, “Tolling of Deadlines for Antidumping and Countervailing Duty Proceedings,” dated July 22, 2024.

For a complete description of the events that followed the initiation of this review, see the Preliminary Decision Memorandum.⁵ A list of topics discussed in the Preliminary Decision Memorandum is included as Appendix I to this notice. The Preliminary Decision Memorandum is a public document and is on file electronically via Enforcement and Compliance's Antidumping and Countervailing Duty Centralized Electronic Service System (ACCESS). ACCESS is available to registered users at http://access.trade.gov. In addition, a complete version of the Preliminary Decision Memorandum can be accessed directly at https://access.trade.gov/public/FRNoticesListLayout.aspx.

⁵ See Memorandum, “Decision Memorandum for the Preliminary Results of the Countervailing Duty Administrative Review; 2022: Certain Cold-Rolled Steel Flat Products from the Republic of Korea,” dated concurrently with, and hereby adopted by, this notice (Preliminary Decision Memorandum).

Scope of the Order ⁶

⁶ See Certain Cold-Rolled Steel Flat Products from Brazil, India, and the Republic of Korea: Amended Final Affirmative Countervailing Duty Determination and Countervailing Duty Order (the Republic of Korea) and Countervailing Duty Orders (Brazil and India), 81 FR 64436 (September 20, 2016) (Order).

The merchandise covered by the Order is cold-rolled steel from Korea. For a complete description of the scope of the Order, see the Preliminary Decision Memorandum.

Partial Rescission of Administrative Review

In accordance with 19 CFR 351.213(d)(1), Commerce will rescind an administrative review, in whole or in part, if a party who requested the review withdraws the request within 90 days of the date of publication of the notice of initiation of the requested review in the Federal Register. On February 13, 2024, the petitioners withdrew their requests for review by the 90-day withdrawal deadline for the companies identified in Appendix II.⁷ Because the petitioners timely withdrew their requests for a review of these companies, and no other party requested a review of them, in accordance with 19 CFR 351.213(d)(1), Commerce is rescinding this review, in part, with respect to these companies.

⁷ See Petitioner's Letter, “Partial Withdrawal of Request for Administrative Review,” dated February 13, 2024, at 1-3.

Furthermore, pursuant to 19 CFR 351.213(d)(3), Commerce will rescind an administrative review when there are no entries of subject merchandise during the POR for which liquidation is suspended.⁸ Normally, upon completion of an administrative review, the suspended entries are liquidated at the antidumping duty assessment rate calculated for the review period.⁹ Therefore, for an administrative review of a company to be conducted, there must be a suspended entry that Commerce can instruct U.S. Customs and Border Protection (CBP) to liquidate at the antidumping duty assessment rate calculated for the POR.¹⁰

⁸ See, e.g., Dioctyl Terephthalate from the Republic of Korea: Rescission of Antidumping Administrative Review; 2021-2022, 88 FR 24758 (April 24, 2023); see also Certain Carbon and Alloy Steel Cut-to Length Plate from the Federal Republic of Germany: Recission of Antidumping Administrative Review; 2020-2021, 88 FR 4157 (January 24, 2023).

⁹ See 19 CFR 351.212(b)(2).

¹⁰ See 19 CFR 351.213(d)(3).

On December 20, 2023, we notified parties, and invited comment, of our intent to rescind this administrative review with respect to certain companies because there were no suspended entries of subject merchandise produced or exported by these companies during the POR.¹¹ No party commented on the Intent to Rescind Memorandum. Therefore, in the absence of any suspended entries of subject merchandise from the three companies identified in Appendix II, we are rescinding the administrative review for the three companies in accordance with 19 CFR 351.213(d)(3).

¹¹ See Memorandum, “Notice of Intent to Rescind Review, In Part,” dated December 20, 2023 (Intent to Rescind Memorandum).

Methodology

Commerce is conducting this review in accordance with section 751(a)(l)(A) of the Tariff Act of 1930, as amended (the Act). For each of the subsidy programs found countervailable, Commerce preliminarily determines that there is a subsidy, i.e., a financial contribution by an “authority” that gives rise to a benefit to the recipient, and that the subsidy is specific.¹² For a full description of the methodology underlying our conclusions, see the Preliminary Decision Memorandum.

¹² See sections 771(5)(B) and (D) of the Act regarding financial contribution; section 771(5)(E) of the Act regarding benefit; and section 771(5A) of the Act regarding specificity.

Rate for Non-Examined Company

The Act and Commerce's regulations do not address the establishment of a rate to apply to companies not selected for individual examination when Commerce limits its examination in an administrative review pursuant to section 777A(e)(2) of the Act. Generally, Commerce looks to section 705(c)(5) of the Act, which provides instructions for calculating the all-others rate in a CVD investigation, for guidance when determining the rate for companies which were not selected for individual examination in an administrative review. Section 777A(e)(2) of the Act provides that “the individual countervailable subsidy rates determined under subparagraph (A) shall be used to determine the all-others rate under section 705(c)(5) {of the Act}.” Section 705(c)(5)(A) of the Act states that for companies not investigated, in general, we will determine an all-others rate by weight averaging the countervailable subsidy rates established for each of the companies individually investigated, excluding zero and de minimis rates or any rates based entirely on facts available.

Accordingly, to determine the rate for companies not selected for individual examination, Commerce's practice is to weight average the net subsidy rates for the selected mandatory respondents, excluding rates that are zero, de minimis, or based entirely on facts available.¹³ In this administrative review, Commerce calculated preliminary individual estimated countervailable subsidy rates for Hyundai Steel and POSCO that are not zero, de minimis, or based entirely on facts otherwise available. Therefore, Commerce preliminarily calculated the rate assigned to KG Dongbu Steel Co., Ltd. using a weighted average of the individual estimated subsidy rates calculated for the examined respondents using each company's public ranged values for the merchandise under consideration.¹⁴

¹³ See, e.g., Certain Pasta from Italy: Final Results of the 13th (2008) Countervailing Duty Administrative Review, 75 FR 37386, 37387 (June 29, 2010).

¹⁴ With two respondents under examination, Commerce normally calculates: (A) a weighted-average of the estimated subsidy rates calculated for the examined respondents; (B) a simple average of the estimated subsidy rates calculated for the examined respondents; and (C) a weighted-average of the estimated subsidy rates calculated for the examined respondents using each company's publicly-ranged U.S. sale values for the merchandise under consideration. Commerce then compares (B) and (C) to (A) and selects the rate closest to (A) as the most appropriate rate for all other producers and exporters. See, e.g., Ball Bearings and Parts Thereof from France, Germany, Italy, Japan, and the United Kingdom: Final Results of Antidumping Duty Administrative Reviews, Final Results of Changed-Circumstances Review, and Revocation of an Order in Part, 75 FR 53661, 53662 (September 1, 2010), and accompanying Issues and Decision Memorandum at Comment 1. As complete publicly ranged sales data were available, Commerce based the review-specific rate on the publicly ranged sales data of the mandatory respondents. For a complete analysis of the data, see Memorandum, “Calculation of Subsidy Rate for Company Not Selected for Individual Examination,” dated concurrently with this notice.

Preliminary Results of Review

As a result of this review, we preliminarily determine the net countervailable subsidy rates for the period January 1, 2022, through December 31, 2022, to be:

Company | Subsidy rate (percent ad valorem)
POSCO/POSCO International Corporation ¹⁵ | 1.48
Hyundai Steel Company ¹⁶ | 2.21
KG Dongbu Steel Co., Ltd | 1.73

Disclosure and Public Comment

Commerce intends to disclose its calculations and analysis performed to interested parties for these preliminary results within five days of any public announcement or, if there is no public announcement, within five days of the date of publication of this notice in the Federal Register in accordance with 19 CFR 351.224(b).

¹⁵ As discussed in the Preliminary Decision Memorandum, Commerce has found the following companies to be cross-owned with POSCO: POSCO Chemical Co., Ltd., POSCO M-Tech, Pohang Scrap Recycling Distribution Center Co., Ltd., POSCO Nippon Steel RHF Joint Venture Co., Ltd., POSCO Holdings, and POSCO Mobility Solutions. We note that POSCO has an affiliated trading company through which it exported certain subject merchandise, POSCO International Corporation (POSCO International). POSCO International was not selected as a mandatory respondent but was examined in the context of POSCO and POSCO International's subsidies are accounted for in POSCO's total subsidy rate.

¹⁶ As discussed in the Preliminary Decision Memorandum, Commerce has found the following companies to be cross-owned with Hyundai Steel: Hyundai Green Power Co., Ltd. and Hyundai ITC Co., Ltd.

Pursuant to 19 CFR 351.309(c), interested parties may submit case briefs to Commerce no later than 30 days after the date of publication of this notice. Rebuttal briefs, limited to issues raised in the case briefs, may be filed not later than five days after the date for filing case briefs.¹⁷ Interested parties who submit case briefs or rebuttal briefs in this proceeding must submit: (1) a table of contents listing each issue; and (2) a table of authorities.¹⁸

¹⁷ See 19 CFR 351.309(d); see also Administrative Protective Order, Service, and Other Procedures in Antidumping and Countervailing Duty Proceedings, 88 FR 67069, 67077 (September 29, 2023) (APO and Service Procedures).

¹⁸ See 19 351.309(c)(2) and (d)(2).

As provided under 19 CFR 351.309(c)(2) and (d)(2), in prior proceedings we have encouraged interested parties to provide an executive summary of their briefs that should be limited to five pages total, including footnotes. In this review, we instead request that interested parties provide at the beginning of their briefs a public, executive summary for each issue raised in their briefs.¹⁹ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).²⁰

¹⁹ We use the term “issue” here to describe an argument that Commerce would normally address in a comment of the Issues and Decision Memorandum.

²⁰ See APO and Service Procedures.

Pursuant to 19 CFR 351.310(c), interested parties who wish to request a hearing must submit a written request to the Assistant Secretary for Enforcement and Compliance, filed electronically via ACCESS by 5:00 p.m. Eastern Time within 30 days after the date of publication of this notice. Requests should contain: (1) the party's name, address, and telephone number; (2) the number of participants; and (3) a list of issues to be discussed. Oral presentations at the hearing will be limited to issues raised in the briefs. If a request for a hearing is made, Commerce will inform parties of the scheduled date for the hearing.²¹

²¹ See 19 CFR 351.310(d).

Unless the deadline in extended, pursuant to section 751(a)(3)(A) of the Act and 19 CFR 351.213(h), we intend to issue the final results of this administrative review, including the results of our analysis of the issues raised by the parties in any written briefs, no later than 120 days after the date of publication of these preliminary results in the Federal Register.

Assessment Rates

Consistent with section 751(a)(1) of the Act and 19 CFR 351.212(b)(2), upon issuance of the final results, Commerce shall determine, and CBP shall assess, countervailing duties on all appropriate entries covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

Pursuant to section 751(a)(2)(C) of the Act, Commerce intends to instruct CBP to collect cash deposits of estimated countervailing duties in the amount indicated above with regard to shipments of subject merchandise entered, or withdrawn from warehouse, for consumption on or after the date of publication of the final results of this review. For all non-reviewed firms, we will instruct CBP to continue to collect cash deposits of estimated countervailing duties at the most recent company-specific or all-others rate applicable to the company, as appropriate. These cash deposit instructions, when imposed, shall remain in effect until further notice.

Notification to Interested Parties

We are issuing and publishing these preliminary results in accordance with sections 751(a)(1) and 777(i)(1) of the Act, and 19 CFR 351.221(b)(4).

Dated: October 4, 2024.
Ryan Majerus,
Deputy Assistant Secretary for Policy and Negotiations, performing the non-exclusive functions and duties of the Assistant Secretary for Enforcement and Compliance.

Appendix I

List of Topics Discussed in the Preliminary Decision Memorandum

I. Summary

II. Background

III. Scope of the Order

IV. Subsidies Valuation Information

V. Benchmarks and Interest Rates

VI. Analysis of Programs

VII. Recommendation

Appendix II

Rescission Based on Withdrawal of Review Requests

1. AJU Steel Co., Ltd.

2. Amerisource Korea

3. Amerisource International

4. BC Trade

5. Busung Steel Co., Ltd.

6. Cenit Co., Ltd.

7. Daewoo Logistics Corp.

8. Dai Yang Metal Co., Ltd.

9. DK GNS Co., Ltd.

10. Dongbu Incheon Steel Co., Ltd.

11. Dongbu Steel Co., Ltd.

12. Dong Jin Machinery

13. Dongkuk Industries Co., Ltd.

14. Dongkuk Steel Mill Co., Ltd.

15. Eunsan Shipping and Air Cargo Co., Ltd.

16. Euro Line Global Co., Ltd.

17. Golden State Corp.

18. GS Global Corp.

19. Hanawell Co., Ltd.

20. Hankum Co., Ltd.

21. Hyosung TNC Corp.

22. Hyuk San Profile Co., Ltd.

23. Iljin NTS Co., Ltd.

24. Iljin Steel Corp.

25. Jeen Pung Industrial Co., Ltd.

26. JS Steel Co., Ltd.

27. JT Solution

28. Kolon Global Corporation.

29. Nauri Logistics Co., Ltd.

30. Okaya (Korea) Co., Ltd.

31. PL Special Steel Co., Ltd.

32. Samsung C&T Corp.

33. Samsung STS Co., Ltd.

34. SeAH Steel Corp.

35. SM Automotive Ltd.

36. SK Networks Co., Ltd.

37. Taihan Electric Wire Co., Ltd.

38. TGS Pipe Co., Ltd.

39. TI Automotive Ltd.

40. Topco Global Co., Ltd.

41. Xeno Energy

42. Young Steel Co., Ltd.

Rescission Based on No Suspended Entries

43. Hyundai Group;

44. POSCO C&C Co., Ltd.;

45. POSCO Daewoo Corp.

[FR Doc. 2024-23565 Filed 10-10-24; 8:45 am]

BILLING CODE 3510-DS-P